DEPARTMENT OF COMMERCE

National Oceanic and Atmospheric Administration

[I.D. 050605B]

Marine Mammals; File Nos. 116-1786, 715-1792, 978-1791

AGENCY: National Marine Fisheries Service (NMFS), National Oceanic and Atmospheric Administration (NOAA), Commerce.

ACTION: Receipt of applications for permits.

SUMMARY: Notice is hereby given that three applicants have applied in due form for a permit for scientific research on marine mammals.

DATES: Written, telefaxed, or e-mail comments on the new applications must be received on or before June 20, 2005.

ADDRESSES: The applications and related documents are available for review upon written request or by appointment (See SUPPLEMENTARY INFORMATION).

Written comments or requests for a public hearing on these applications should be mailed to the Chief, Permits, Conservation and Education Division, F/PR1, Office of Protected Resources, NMFS, 1315 East-West Highway, Room 13705, Silver Spring, MD 20910. Those individuals requesting a hearing should set forth the specific reasons why a hearing on the particular request would be appropriate. Comments may also be submitted by facsimile at (301)427-2521, provided the facsimile is confirmed by hard copy submitted by mail and postmarked no later than the closing date of the comment period.

Comments may also be submitted by e-mail. The mailbox address for providing email comments is NMFS.Pr1Comments@noaa.gov. Include in the subject line of the e-mail comment the following document identifier: File No. 116-1786, 715-1792, or 978-1791.

FOR FURTHER INFORMATION CONTACT: Amy Sloan or Tammy Adams, 301/713-2289.

SUPPLEMENTARY INFORMATION: The subject permits are requested under the authority of the Marine Mammal Protection Act of 1972, as amended (MMPA; 16 U.S.C. 1361 et seq.), the Regulations Governing the Taking and Importing of Marine Mammals (50 CFR part 216), the Endangered Species Act of 1973, as amended (ESA; 16 U.S.C. 1531 et seq.), the regulations governing the taking, importing, and exporting of endangered and threatened species (50 CFR 222-227), and the Fur Seal Act of 1966, as amended (16 U.S.C. 1151 et seq.).

Applications for Permits

File No. 116-1786: Sea World, Inc., 7007 Sea World Dr., Orlando, Florida 32821 (Principal Investigator: Dudley Wigdahl) proposes to continue the long-term maintenance of eight non-releasable female Hawaiian monk seals (Monachus schauinslandi) at Sea World San Antonio. Proposed enhancement activities include increased public awareness through an education program that includes public educational exhibit lectures, public display of the seals with graphic panels around the monk seal exhibit, and collection of husbandry samples, which would provide information on the biology of the species. Animals would have the following husbandry procedures performed for health monitoring purposes: weight measurements taken, blood sampling, fecal and urine sampling, and medical cultures taken. No research is proposed at this time. The applicant has requested a 5-year permit.

File No. 715-1792: Andrew W. Trites, Ph.D., Marine Mammal Research Unit, Fisheries Centre, University of British Columbia, Room 18, Hut B-3, 6248 Biological Sciences Road, Vancouver, B.C. Canada V6T 1Z4 requests a permit to conduct research on northern fur seals (Callorhinus ursinus) in Alaska. The proposed project involves the deployment of three types of electronic tags on up to 35 adult female northern fur seals from St. Paul Island, Alaska over a 3-year period to gather fine scale foraging data needed to identify critical habitat and assess the extent of spatial overlap with commercial fisheries. Data gathered from the simultaneous deployment of all three devices will also be used to develop analytical procedures to enhance the interpretation of existing foraging data. The applicant has requested a 3-year permit.

File No. 978-1791: Paul E. Nachtigall, Ph.D., Marine Mammal Research Program Hawaii Institute of Marine Biology, P.O. Box 1106, Kailua, Hawaii 96734, seeks a permit to conduct hearing measurements on stranded whales and dolphins that are under veterinary care in a rehabilitation center. Results of this work would shed insight into the nature of strandings that may be caused by man-made sounds. These results could also be used as a medical diagnostic tool to determine how well an individual animal can hear and thus help with decisions made about the potential for a stranded animal to be released and its survival in the wild. The applicant would use auditory brainstem response recordings with non-invasive suction cup sensors on up to 15 individuals of certain species of cetaceans in the U.S. These types of recordings are routinely used to measure the hearing of human infants within the first weeks of life, do not represent a risk to whales and dolphins, and would expand knowledge about cetacean hearing to assist in the conservation of these species. The applicant has requested a 5-year permit.

Concurrent with the publication of this notice in the Federal Register, NMFS is forwarding copies of these applications to the Marine Mammal Commission and its Committee of Scientific Advisors.

The applications and related documents are available for review upon written request or by appointment in the following locations:

All documents: Permits, Conservation and Education Division, Office of Protected Resources, NMFS, 1315 East-West Highway, Room 13705, Silver Spring, MD 20910; phone (301)713-2289; fax (301)427-2521;

File No. 715-1792: Alaska Region, NMFS, P.O. Box 21668, Juneau, AK 99802-1668; phone (907)586-7221; fax (907)586-7249;

File No. 978-1791: Pacific Islands Region, NMFS, 1601 Kapiolani Blvd., Rm 1110, Honolulu, HI 96814-4700; phone (808)973-2935; fax (808)973-2941; and

File No. 116-1786: Southeast Region, NMFS, 9721 Executive Center Drive North, St. Petersburg, FL 33702-2432; phone (727)570-5301; fax (727)570-5320.

Dated: May 12, 2005.
Stephen L. Leathery,
Chief, Permits, Conservation and Education Division, Office of Protected Resources, National Marine Fisheries Service.

[FR Doc. 05-10022 Filed 5-18-05; 8:45 am]

BILLING CODE 3510-22-S